DEPARTMENT OF ENERGY

Federal Energy Regulatory Commission

Combined Notice of Filings #1

Take notice that the Commission received the following electric rate filings:

Docket Numbers: ER19-465-001.

Applicants: Midcontinent Independent System Operator, Inc.

Description: Report Filing: 2019-11-01_Order 841 extension request to be effective N/A.

Filed Date: 11/1/19.

Accession Number: 20191101-5279.

Comments Due: 5 p.m. ET 11/8/19.

Docket Numbers: ER19-2818-001.

Applicants: Upper Missouri G. & T. Electric Cooperative, Inc.

Description: Tariff Amendment: Supplement to Initial Formula Rate Filing to be effective 11/15/2019.

Filed Date: 11/5/19.

Accession Number: 20191105-5069.

Comments Due: 5 p.m. ET 11/26/19.

Docket Numbers: ER19-2820-000.

Applicants: Upper Missouri G. & T. Electric Cooperative, Inc.

Description: Supplement to September 16, 2019 Upper Missouri G. & T. Electric Cooperative, Inc. tariff filing.

Filed Date: 11/5/19.

Accession Number: 20191105-5100.

Comments Due: 5 p.m. ET 11/26/19.

Docket Numbers: ER19-2823-000.

Applicants: Isabella Wind, LLC.

Description: Second Supplement to September 17, 2019 Isabella Wind, LLC tariff filing.

Filed Date: 11/1/19.

Accession Number: 20191101-5293.

Comments Due: 5 p.m. ET 11/15/19.

Docket Numbers: ER20-301-000.

Applicants: PJM Interconnection, L.L.C.

Description: Tariff Cancellation: Notice of Cancellation of WMPA/SA No. 4377; Queue No. AB1-040 to be effective 11/12/2019.

Filed Date: 11/4/19.

Accession Number: 20191104-5096.

Comments Due: 5 p.m. ET 11/25/19.

Docket Numbers: ER20-302-000.

Applicants: PJM Interconnection, L.L.C.

Description: § 205(d) Rate Filing: First Revised ISA, SA No. 2255, Queue AC1-100 to be effective 10/4/2019.

Filed Date: 11/4/19.

Accession Number: 20191104-5099.

Comments Due: 5 p.m. ET 11/25/19.

Docket Numbers: ER20-303-000.

Applicants: Midcontinent Independent System Operator, Inc.

Description: § 205(d) Rate Filing: 2019-11-04_CTA Continuous Improvement Filing to be effective 2/2/2020.

Filed Date: 11/4/19.

Accession Number: 20191104-5100.

Comments Due: 5 p.m. ET 11/25/19.

Docket Numbers: ER20-304-000.

Applicants: PPL Electric Utilities Corporation.

Description: § 205(d) Rate Filing: Service Agreement 941 between MAIT and PPL EU to be effective 11/4/2019.

Filed Date: 11/4/19.

Accession Number: 20191104-5103.

Comments Due: 5 p.m. ET 11/25/19.

Docket Numbers: ER20-305-000.

Applicants: Midcontinent Independent System Operator, Inc.

Description: § 205(d) Rate Filing: 2019-11-04_CTA Project Cost Definition Filing to be effective 2/2/2020.

Filed Date: 11/4/19.

Accession Number: 20191104-5101.

Comments Due: 5 p.m. ET 11/25/19.

Docket Numbers: ER20-306-000.

Applicants: PJM Interconnection, L.L.C.

Description: § 205(d) Rate Filing: Amendment to Original WMPA, SA No. 4951; Queue No. AD1-054 to be effective 2/20/2018.

Filed Date: 11/4/19.

Accession Number: 20191104-5104.

Comments Due: 5 p.m. ET 11/25/19.

Docket Numbers: ER20-307-000.

Applicants: C.P. Crane LLC.

Description: Tariff Cancellation: cancellation tariff to be effective 1/5/2020.

Filed Date: 11/5/19.

Accession Number: 20191105-5066.

Comments Due: 5 p.m. ET 11/26/19.

Docket Numbers: ER20-308-000.

Applicants: ISO New England Inc.

Description: ISO New England Inc. submits Informational filing for Qualification in the Forward Capacity Market.

Filed Date: 11/5/19.

Accession Number: 20191105-5086.

Comments Due: 5 p.m. ET 11/20/19.

Docket Numbers: ER20-310-000.

Applicants: Tampa Electric Company.

Description: Compliance filing: Compliance Filing Changes to Market-Based Rate Tariff to be effective 1/1/2020.

Filed Date: 11/5/19.

Accession Number: 20191105-5089.

Comments Due: 5 p.m. ET 11/26/19.

Docket Numbers: ER20-311-000.

Applicants: ISO New England Inc.

Description: ISO New England Inc. submits Installed Capacity Requirement, Hydro Quebec Interconnection Capability Credits and Related Values for the 2023/2024 Capacity Commitment Period.

Filed Date: 11/5/19.

Accession Number: 20191105-5112.

Comments Due: 5 p.m. ET 11/26/19.

Docket Numbers: ER20-312-000.

Applicants: PJM Interconnection, L.L.C.

Description: Tariff Cancellation: Notice of Cancellation of WMPA/SA No. 4378; Queue No. AB1-041 to be effective 11/12/2019.

Filed Date: 11/5/19.

Accession Number: 20191105-5114.

Comments Due: 5 p.m. ET 11/26/19.

Docket Numbers: ER20-313-000.

Applicants: Sun Streams 2, LLC.

Description: Baseline eTariff Filing: Certificate of Concurrence for Shared Facilities Common Ownership Agreement to be effective 11/6/2019.

Filed Date: 11/5/19.

Accession Number: 20191105-5115.

Comments Due: 5 p.m. ET 11/26/19.

Docket Numbers: ER20-314-000.

Applicants: Sun Streams 4, LLC.

Description: Baseline eTariff Filing: Certificate of Concurrence for Shared Facilities Common Ownership Agreement to be effective 11/6/2019.

Filed Date: 11/5/19.

Accession Number: 20191105-5116.

Comments Due: 5 p.m. ET 11/26/19.

Docket Numbers: ER20-315-000.

Applicants: PJM Interconnection, L.L.C.

Description: Tariff Cancellation: Notice of Cancellation of WMPA/SA No. 4379; Queue No. AB1-042 to be effective 11/12/2019.

Filed Date: 11/5/19.

Accession Number: 20191105-5128.

Comments Due: 5 p.m. ET 11/26/19.

Docket Numbers: ER20-316-000.

Applicants: Sun Streams PVS, LLC.

Description: Baseline eTariff Filing: Certificate of Concurrence for Shared Facilities Common Ownership Agreement to be effective 11/6/2019.

Filed Date: 11/5/19.

Accession Number: 20191105-5132.

Comments Due: 5 p.m. ET 11/26/19.

Docket Numbers: ER20-317-000.

Applicants: Sun Streams Expansion, LLC.

Description: Baseline eTariff Filing: Certificate of Concurrence for Shared Facilities Common Ownership Agreement to be effective 11/6/2019.

Filed Date: 11/5/19.

Accession Number: 20191105-5133.

Comments Due: 5 p.m. ET 11/26/19.

Take notice that the Commission received the following electric securities filings:

Docket Numbers: ES19-25-001.

Applicants: NSTAR Electric Company.

Description: Supplement to April 24, 2019 Application under Section 204 of the Federal Power Act for Authorization to Issue Securities of NSTAR Electric Company.

Filed Date: 11/1/19.

Accession Number: 20191101-5316.

Comments Due: 5 p.m. ET 11/22/19.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 5, 2019.
Kimberly D. Bose,
Secretary.

[FR Doc. 2019-24566 Filed 11-8-19; 8:45 am]

BILLING CODE 6717-01-P